ENVIRONMENTAL PROTECTION AGENCY

[FRL-9440-5]

Availability of the Incident Waste Management Planning and Response Tool

AGENCY: Environmental Protection Agency.

ACTION: Notice of Availability: External Peer Review Meeting.

SUMMARY: EPA has responsibilities for decontamination and waste disposal activities following a biological incident. The Incident Waste Management Planning and Response Tool “IWMPRT” was developed partly to satisfy requirements assigned under Homeland Security Presidential Directive 10 (HSPD-10), Biodefense in the 21st Century HSPD-10. In addition, HSPD-9 requires that, “the Administrator of the Environmental Protection Agency, shall enhance recovery systems that are able to stabilize agriculture production, the food supply, and the economy, rapidly remove and effectively dispose of contaminated agriculture and food products or infected plants and animals, and decontaminate premises.”

EPA is announcing the availability of an upcoming meeting where the public will be invited to attend and comment on the IWMPRT. The tool is available at: http://www2.ergweb.com/bdrtool/login.asp. In addition, a symposium paper describing updates to the IWMPRT is mentioned and made available through this notice.

Time and Dates: August 17 and 18, 2011 from 9 a.m. to 4 p.m.

Place: The meeting will be held at the Marriott Courtyard Arlington Crystal City, 2899 Jefferson Davis Highway, Arlington, VA.

Status: Parts of this meeting will be open to the public on August 17th from 9a.m. to 4 p.m. An open discussion period for public comment will be held from 3 p.m. to 3:30. The rest of the meeting is closed to the public. Seating is limited. The deadline to register is August 12, 2011. If you are interested in attending the public session on August 17, 2011, please register on-line at http://iwmprt.eventbrite.com/.

FOR FURTHER INFORMATION CONTACT:

Technical Information: To obtain access to the IWMPRT or any technical questions, please contact Dr. Paul Lemieux, 919-541-0962;

Logistical Information: For logistical related questions or to submit written comments, please contact Eletha Brady-Roberts. Public review comments should be submitted by August 12, 2011 either via e-mail at roberts.eletha@epa.gov or mail to Eletha Brady-Roberts, National Homeland Security Research Center, Office of Research and Development, U.S. Environmental Protection Agency (NG16), 26 West Martin Luther King Drive, Cincinnati, Ohio 45268. Telephone number: 513-569-7662; Fax number: 513-487-2555.

SUPPLEMENTARY INFORMATION: Unique challenges exist for the handling, transport, and disposal of debris resulting from homeland security incidents, natural disasters or other national emergencies. Access to guidance for facilitating decision making in the safe and timely disposal of waste and debris is critical to helping restore a contaminated area and to prevent further contamination or spread of disease. The IWMPRT is a suite of decision support tools developed by the US EPA, in collaboration with other Federal and state Agencies as well as members of the private sector, which provides a quick reference to technical data, regulations, and other information that assists decision makers in guiding disposal decisions that are important for the protection of public health, and the environment. Moreover, the IWMPRT provides a waste quantity estimation tool and information on the: (1) types and quantities of materials and contaminants involved and (2) unique issues or challenges faced with ensuring public and worker safety in the safe and efficient removal, transport, and disposal of debris from an incident.

Symposium paper is available on—

http://cfpub.epa.gov/si/si_public_record_report.cfm?dirEntryId=210325&fed_org_id=1253&address=nhsrc/&view=desc&sortBy=pubDateYear&showCriteria=1&count=25&searchall=Disposal%20OR%20landfill%20OR%20leachate.

Dated: July 6, 2011.
Jonathan G. Herrmann,
Director, National Homeland Security Research Center, Office of Research and Development, U.S. Environmental Protection Agency.

[FR Doc. 2011-18003 Filed 7-15-11; 8:45 am]

BILLING CODE 6560-50-P